DEPARTMENT OF THE INTERIOR

Bureau of Reclamation

Review of Existing Coordinate Long Range Operating Criteria for Colorado River Reservoirs

AGENCY: Bureau of Reclamation, Interior.

ACTION: Notice.

SUMMARY: The Operating Criteria for Colorado River Reservoirs (Operating Criteria), promulgated pursuant to Public Law 90-537, were published in the Federal Register on June 10, 1970. The Operating Criteria state that the Secretary will sponsor a formal review of the Operation Criteria at least every 5 years. As part of that 5-year review process, the Bureau of Reclamation invites written comments regarding whether the Operating Criteria should be modified, and if so, how they should be modified. The existing Operating Criteria are included at the end of this notice.

DATES: Written comments must be received on or before March 18, 2002.

ADDRESSES: Written comments may be mailed to: Regional Director, Attn: BCOO-4600, Lower Colorado Region, Bureau of Reclamation, P.O. Box 61470, Boulder City, NV 89006-1470.

FOR FURTHER INFORMATION CONTACT: Jayne Harkins at (702) 293-8190 or in writing at Bureau of Reclamation, Lower Colorado Region, P.O. Box 61470, Boulder City, NV 89006-1470 or by faxogram at (702) 293-8042 or Tom Ryan at (801) 524-3732 or in writing at Bureau of Reclamation, Upper Colorado Region, 125 South State Street, Salt Lake City, Utah 84138-1102. E-mail can be sent to LROC_Review@lc.usbr.gov.

SUPPLEMENTARY INFORMATION: The Operating Criteria provided for the coordinated long-range operation of the reservoirs constructed and operated under the authority of the Colorado River Storage Project Act, the Boulder Canyon Project Act, and the Boulder Canyon Project Adjustment Act for the purposes of complying with and carrying out the provisions of the Colorado River Compact, the Upper Colorado River Basin Compact, and the Mexican Water Treaty.

The Operating Criteria provide for a review at least every 5 years with participation by Colorado River Basin state representatives as each Governor may designate and other parties and agencies as the Secretary of the Interior may deem appropriate. As provided in Public Law 102-575 (The Grand Canyon Protection Act of 1992), the Secretary also consults in this review process with the general public including representatives of academic and scientific communities, environmental organizations, the recreation industry, and contractors for the purchase of Federal power produced at Glen Canyon Dam. This will be the sixth 5-year review of the Operating Criteria since their initial promulgation in 1970. The Commissioner of the Bureau of Reclamation shall be the authorized agent of the Secretary of the Interior for the purposes of conducting and coordinating this review.

The Record of Decision, Colorado River Interim Surplus Guidelines Final Environmental Impact Statement (Interim Surplus Guidelines) states that 5-year reviews of the Interim Surplus Guidelines may be conducted and if so, such reviews would be coordinated with the Operating Criteria review. The Interim Surplus Guidelines were signed by former Secretary Bruce Babbit on January 16, 2001, became effective in February 2001, and are to be applied in 2002. Accordingly, at this time, there is no need for a review of the Interim Surplus Guidelines.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

In addition to written comments, open public meetings will be conducted during calendar year 2002. Notification of dates, times, and locations for public meetings will be made through the Federal Register, media outlets, and to all respondents to this notice.

Dated: December 20, 2001.
John W. Keys, III,
Commissioner, Bureau of Reclamation.

Criteria for Coordinated Long-Range Operation of Colorado River Reservoirs Pursuant to the Colorado River Basin Project Act of September 30, 1968 (Pub. L. 90-537)

These Operating Criteria are promulgated in compliance with Section 602 of Public Law 90-537. They are to control the coordinated long-range operation of the storage reservoirs in the Colorado River Basin constructed under the authority of the Colorado River Storage Act (hereinafter “Upper Basin Storage Reservoirs”) and the Boulder Canyon Project Act (Lake Mead). The Operating Criteria will be administered consistent with applicable Federal laws, the Mexican Water Treaty, interstate compacts, and decrees relating to the use of the waters of the Colorado River.

The Secretary of the Interior (hereinafter the “Secretary”) may modify the Operating Criteria from time to time in accordance with Section 602(b) of Pub. L. 90-537. The Secretary will sponsor a formal review of the Operating Criteria at least every 5 years, with participation by State representatives as each Governor may designate and such other parties and agencies as the Secretary may deem appropriate.

I. Annual Report

(1) On January 1, 1972, and on January 1 of each year thereafter, the Secretary shall transmit to the Congress and to the Governors of the Colorado River Basin States a report describing the actual operation under the adopted criteria for the preceding compact water year and the projected plan of operation for the current year.

(2) The plan of operation shall include such detailed rules and quantities as may be necessary and consistent with the criteria contained herein, and shall reflect appropriate consideration of the uses of the reservoirs for purposes, including flood control, river regulation, beneficial consumptive uses, power production, water quality control, recreation, enhancement of fish and wildlife, and other environmental factors. The projected plan of operation may be revised to reflect the current hydrologic conditions, and the Congress and the Governors of the Colorado River Basin States be advised of any changes by June of each year.

II. Operation of Upper Basin Reservoirs

(1) The annual plan of operation shall include a determination by the Secretary of the quantity of water considered necessary as of September 30 of each year to be in storage as required by Section 602(a) of Pub. L. 90-537 (hereinafter “602(a) Storage”). The quantity of 602(a) Storage shall be determined by the Secretary after consideration of all applicable laws and relevant factors, including, but not limited to, the following:

(a) Historic streamflows;

(b) The most critical period of record;

(c) Probabilities of water supply;

(d) Estimated future depletions of the upper basin, including the effects of recurrence of critical periods of water supply;

(e) The “Report of the Committee on Probabilities and Test Studies to the Task Force on Operating Criteria for the Colorado River,” dated October 30, 1969, and such additional studies as the Secretary deems necessary;

(f) The necessity to assure that upper basing consumptive uses not be impaired because of failure to store sufficient water to assure deliveries under Section 602(a)(1) and (2) of Pub. L. 90.537.

(2) If, in the plan of operation, either:

(a) The Upper Basin Storage Reservoirs active storage forecast for September 30 of the current year is less than the quantity of 602(a) Storage determined by the Secretary under Article II(1) hereof, for that date; or

(b) The Lake Powell active storage forecast for that date is less than the Lake Mead active storage forecast for that date:

the objective shall be to maintain a minimum release of water from Lake Powell of 8.23 million acre-feet for that year. However, for the years ending September 30, 1971 and 1972, the release may be greater than 8.23 million acre-feet if necessary to deliver 75,000,000 acre-feet at Lee Ferry for the 10-year period ending September 30, 1972.

(3) If, the plan of operation, the Upper Basin Storage Reservoirs active storage forecast for September 30 of the current water year is greater than the quantity of 602(a) Storage determination for that date, water shall be released annually from Lake Powell at a rate greater than 8.23 million acre-feet per year to the extent necessary to accomplish any or all of the following objectives:

(a) to the extent it can be reasonably applied in the States of the Lower Division to the uses specified in Article III(e) of the Colorado River Compact, but no such releases shall be made when the active storage in Lake Powell is less than the active storage in Lake Mead,

(b) to maintain, as nearly as practicable, active storage in Lake Mead equal to the active storage in Lake Powell, and

(c) to avoid anticipated spills from Lake Powell.

(4) In the application of Article II(3)(b) herein, the annual release will be made to the extent that it can be passed through Glen Canyon Powerplant when operated at the available capability of the powerplant. Any water thus retained in Lake Powell to avoid bypass of water at the Glen Canyon Powerplant will be released through the Glen Canyon Powerplant as soon as practicable to equalize the active storage in Lake Powell and Lake Mead.

(5) Releases from Lake Powell pursuant to these criteria shall not prejudice the position of either the upper or lower basin interests with respect to required deliveries at Lee Ferry pursuant to the Colorado River Compact.

III. Operation of Lake Mead

(1) Water released from Lake Powell, plus the tributary inflows between Lake Powell and Lake Mead, shall be regulated in Lake Mead and either pumped from Lake Mead or released to the Colorado River to meet requirements as follows:

(a) Mexican Treaty obligations;

(b) Reasonable consumptive use requirements of mainstream users in the Lower Basin;

(c) Net river losses;

(d) Net reservoir losses;

(e) Regulatory wastes.

(2) Until such time as mainstream water is delivered by means of the Central Arizona Project, the consumptive use requirements of Article III(1)(b) of these Operating Criteria will be met.

(3) After commencement of delivery of mainstream water by means of the Central Arizona Project, the consumptive use requirements of Article III(1)(b) of these Operating Criteria will be met to the following extent:

(a) Normal: The annual pumping and release from Lake Mead will be sufficient to satisfy 7,500 acre-feet of annual consumptive use in accordance with the decree in Arizona v. California, 376 U.S. 340 (1964).

Surplus: The Secretary shall determine from time to time when water in quantities greater than “Normal” is available for either pumping or release from Lake Mead pursuant to Article II(b)(2) of the decree in Arizona v. California after consideration of all relevant factors, including, but not limited to, the following:

(i) the requirements stated in Article III(1) of these Operating Criteria;

(ii) requests for water by holders of water delivery contracts with the United States, and of other rights recognized in the decree in Arizona v. California;

(iii) actual and forecast quantities of active storage in Lake Mead and the Upper Basin Storage Reservoirs; and

(iv) estimated net inflow to Lake Mead.

(c) Shortage: The Secretary shall determine from time to time when insufficient mainstream water is available to satisfy annual consumptive use requirements of 7,500,000 acre-feet after consideration of all relevant factors, including, but not limited to, the following:

(i) The requirements stated in Article III(1) of these Operating Criteria;

(ii) actual and forecast quantities of active storage in Lake Mead;

(iii) estimated of net inflow to Lake Mead for the current year;

(iv) historic streamflows, including the most critical period of record;

(v) priorities set forth in Article II(A) of the decree in Arizona v. California; and

(vi) the purposes stated in Article I(2) of these Operating Criteria.

The shortage provisions of Article II(B)(3) of the decree in Arizona v. California shall thereupon become effective and consumptive uses from the mainstream shall be restricted to the extent determined by the Secretary to be required Section 301(b) of Public Law 90-537.

IV. Definitions

(1) In addition to the definitions in Section 606 of Pub. L. 90-537, the following shall also apply:

(a) “Spills,” as used in Article II(3)(c) herein, means water released from Lake Powell which cannot be utilized for project purposes, including, but not limited to, the general of power and energy.

(b) “Surplus,” as used in Article III(3)(b) herein, is water which can be used to meet consumptive use demands in the three Lower Division States in excess of 7,500,000 acre-feet annually. The term “surplus” as used in these Operating Criteria is not be construed as applied to, being interpretive of, or in any manner having reference to the term “surplus” in the Colorado River Compact.

(c) “Net inflow to Lake Mead,” as used in Article III(3) (b)(iv) and (c)(iii) herein, represents the annual inflow to Lake Mead in excess of losses from Lake Mead.

(d) “Available capability,” used in Article II(4) herein, means that portion of the total capacity of the powerplant that is physically available for generation.

[FR Doc. 02-688 Filed 1-14-02; 8:45 am]

BILLING CODE 4310-MN-M